DEPARTMENT OF TRANSPORTATION

Coast Guard

33 CFR Part 155

[USCG-1998-3417]

RIN 2115-AF60

Salvage and Marine Firefighting Requirements; Vessel Response Plans for Oil

AGENCY: Coast Guard, DOT.

ACTION: Proposed rulemaking; notice of public meeting; notice of extension of comment period.

SUMMARY: The Coast Guard is announcing a public meeting to discuss its previously published notice of proposed rulemaking (NPRM) titled “Salvage and Marine Firefighting Requirements; Vessel Response Plans for Oil” (67 FR 40254). The Coast Guard is also announcing the extension of the comment period for the NPRM, and updating the point-of-contact for this rulemaking project.

DATES: Comments must reach the Coast Guard on or before October 18, 2002. The public meeting will be held in Louisville, KY, on September 26, 2002. The meeting may conclude before the allotted time if all matters of discussion have been addressed.

ADDRESSES: The public meeting will be held at the following location:

Louisville, KY—The Galt House Hotel (West Tower), Court Room (2nd Floor), 140 North Fourth Avenue, Louisville, KY, 40202.

Please submit your comments and related material(s) by any one of the following methods (choose only one method of delivery in order to avoid multiple listings in the public docket):

• By mail to the Docket Management Facility [USCG-1998-3417], U.S. Department of Transportation, room PL-401, 400 Seventh Street SW, Washington, DC 20590-0001;

• By delivery to room PL-401 on the Plaza level of the Nassif Building, 400 Seventh Street SW, Washington, DC, between 9 a.m. and 5 p.m., Monday through Friday, except Federal holidays;

• By fax to the Docket Management Facility at 202-493-2251; or

• Electronically through the website for the Docket Management System at http://dms.dot.gov.

FOR FURTHER INFORMATION CONTACT: If you have questions concerning this proposed rulemaking, please contact Lieutenant Commander Paul Albertson, Office of Response, Response Operations Division, Coast Guard Headquarters, at 202-267-0423, or via e-mail at PAlbertson@comdt.uscg.mil. If you have questions on viewing or submitting material(s) to the docket, please call Ms. Dorothy Beard, Chief, Dockets, Department of Transportation, at 202-366-5149.

SUPPLEMENTARY INFORMATION:

Request for Comments

We encourage you to participate in this rulemaking by submitting comments and related material(s). If you do so, please include your name and address, identify the docket number for this rulemaking [USCG-1998-3417], indicate the specific section of this document to which each comment applies, and give the reason for each comment. Please submit all comments and related material(s) in an unbound format, no larger than 8½ by 11 inches, suitable for copying. If you would like to receive confirmation that your submission reached us, please enclose a stamped, self-addressed postcard or envelope. We will consider all comments and material(s) received during the comment period.

Regulatory History

A notice of proposed rulemaking (NPRM) was published in the Federal Register on May 10, 2002 (67 FR 31868), entitled “Salvage and Marine Firefighting Requirements; Vessel Response Plans for Oil.” Subsequent to that publication, the Coast Guard published a notice of public meeting in the Federal Register on June 12, 2002 (67 FR 40254).

In response to the NPRM, the Coast Guard received requests to extend the comment period, which would provide the public with additional time to submit their comments. Independent of these requests, the Coast Guard determined that an additional public meeting was necessary in order to allow for greater public involvement. We are extending the comment period to accommodate the date of this fourth meeting, and to provide additional time as requested in response to the NPRM.

Please do not resubmit comments that have already been submitted to this docket. The NPRM and comments already received may be viewed at http://dms.dot.gov.

Background and Purpose

In the NPRM, we proposed to revise the vessel response plan salvage and marine firefighting requirements for tank vessels transporting oil. The revisions would clarify the salvage and marine firefighting services that must be identified in vessel response plans. The proposed changes would insure that the appropriate salvage and marine firefighting resources are identified and available for responding to incidents up to, and including, the worst-case scenario. The proposed rulemaking would also set new response time requirements for each of the required salvage and marine firefighting services.

Public Meeting

The Coast Guard will hold an additional public meeting regarding this proposed rulemaking on the following date and at the following location:

Louisville, KY, September 26, 2002, from 9:30 a.m. to 4 p.m., at The Galt House Hotel (West Tower), Court Room (2nd Floor), 140 North Fourth Avenue, Louisville, KY, 40202.

The meeting may conclude before the allotted time if all matters of discussion have been addressed.

A summary of comments made and a list of attendees will be available on the docket after the meeting concludes.

Dated: August 2, 2002.
Joseph J. Angelo,
Director of Standards, Marine Safety, Security & Environmental Protection.

[FR Doc. 02-19910 Filed 8-2-02; 2:01 pm]

BILLING CODE 4910-15-P